OFFICE OF MANAGEMENT AND BUDGET

Public Availability of Fiscal Year 2006 Agency Inventories Under the Federal Activities Inventory Reform Act

AGENCY: Office of Management and Budget, Executive Office of the President.

ACTION: Notice of Public Availability of Agency Inventory of Activities That Are Not Inherently Governmental and of Activities That Are Inherently Governmental.

SUMMARY: The Federal Activities Inventory Reform (FAIR) Act, Public Law 105-270, requires agencies to develop inventories each year of activities performed by their employees that are not inherently governmental—i.e., inventories of commercial activities. The FAIR Act further requires OMB to review the inventories in consultation with the agencies and publish a notice of public availability in the Federal Register after the consultation process is completed. In accordance with the FAIR Act, OMB is publishing this notice to announce the availability of inventories from the agencies listed below. These inventories identify both commercial activities and activities that are inherently governmental.

This is the third and final release of the FAIR Act inventories for FY 2006. Interested parties who disagree with the agency's initial judgment may challenge the inclusion or the omission of an activity on the list of activities that are not inherently governmental within 30 working days and, if not satisfied with this review, may appeal to a higher level within the agency.

The Office of Federal Procurement Policy has made available a FAIR Act User's Guide through its Internet site: http://www.whitehouse.gov/omb/procurement/fair-index.html. This User's Guide will help interested parties review FY 2006 FAIR Act inventories.

Paul A. Denett,
Administrator, Office of Federal Procurement Policy.

Third Fair Act Release FY 2006
Arlington National Cemetery | Mr. Rory Smith, (703) 607-8561 http://www.arlingtoncemetery.org.
Armed Forces Retirement Home | Mr. Steven G. McManus, (202) 730-3533 http://www.afrh.gov.
Department of Housing and Urban Development (IG) | Mr. Michael Kirby, (202) 708-0614 x8190 http://www.hudoig.gov.
Federal Communications Commission | Ms. Bonita Tingley, (202) 418-0293 http://www.fcc.gov/omd/reports.html.
Holocaust Museum | Ms. Helen Shepherd, (202) 314-0396 http://www.ushmm.org/notices/fair_act/2006.xls.
International Trade Commission | Mr. Stephen McLaughlin, (202) 205-3131 http://www.usitc.gov.
National Endowment for the Humanities | Mr. Barry Maynes, (202) 606-8233 http://www.neh.gov.
National Transportation Safety Board | Ms. Carol Belovitch, (202) 314-6232 http://www.ntsb.gov/info/fair_act_2006.htm.
Office of Management and Budget | Ms. Lisa Ward, (202) 395-5670 http://www.whitehouse.gov/omb/procurement/fair/notices_avail.html.
Office of National Drug Control Policy | Mr. Daniel Petersen, (202) 395-6745 http://www.whitehousedrugpolicy.gov.
Railroad Retirement Board (IG) | Mr. William Tebbe, (312) 751-4350 http://www.rrb.gov/mep/oig.asp.
Small Business Administration (IG) | Mr. Robert Fisher, (202) 205-6583 www.sba.gov/ig/OIG_Fair.html.
U.S. Patent and Trademark Office | Mr. Jack Buie, (571) 272-6283 http://www.uspto.gov.

[FR Doc. E7-18028 Filed 9-12-07; 8:45 am]

BILLING CODE 3110-01-P